DEPARTMENT OF ENERGY

Federal Energy Regulatory Commission

[Docket No. CP01-442-000]

Black Marlin Pipeline Co., MCNIC Black Marlin Offshore Co. and WBI Offshore Pipeline, Inc.; Notice of Application

November 1, 2001.

Take notice that on September 17, 2001, Black Marlin Pipeline Company (Black Marlin), MCNIC Black Marlin Offshore Company (MCNIC), and WBI Offshore Pipeline, Inc. (WBI) (Applicants) filed an application pursuant to sections 7(b) and (c) of the Natural Gas Act for a certificate of public convenience and necessity and for authorization to abandon and transfer ownership in offshore natural gas pipeline facilities referred to as the Black Marlin pipeline system, all as more fully set forth in the application which is on file with the Commission and open to public inspection. Copies of this filing are on file with the Commission and are available for public inspection. This filing may also be viewed on the web at http://www.ferc.gov using the “RIMS” link, select “Docket#” and follow the instructions (call 202-208-2222 for assistance).

Applicants state that the Black Marlin pipeline system is a certificated natural gas pipeline that is owned in undivided interests by Black Marlin, MCNIC, and WBI. Applicants further state that Williams Field Service Group recently purchased 100 percent of the capital stock of Black Marlin, MCNIC, and WBI. Applicants indicate that they are requesting the authorizations in order to merge the entire ownership and certificate authority for the Black Marlin pipeline system into a single corporate entity, which will be Black Marlin. Applicants state that the requested authorization will have no affect on the rates, services, or operation of the Black Marlin pipeline system.

Any person desiring to be heard or to make any protest with reference to said application should on or before November 23, 2001, file with the Federal Energy Regulatory Commission, 888 First Street, NE., Washington, DC 20426, a motion to intervene or a protest in accordance with the requirements of the Commission's rules of practice and procedure (18 CFR 385.214 or 385.211) and the regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules. Comments, protests, and interventions may be filed electronically via the Internet in lieu of paper. See 18 CFR 385.2001(a)(1)(iii) and the instructions on the Commission's website under “e-Filing” link. Copies of the filing are on file with the Commission and are available for public inspection in the Public Reference Room of the Commission's offices.

David P. Boergers,
Secretary.

[FR Doc. 01-27893 Filed 11-6-01; 8:45 am]

BILLING CODE 6717-01-P